DEPARTMENT OF AGRICULTURE

Forest Service

Modoc County Resource Advisory Committee

AGENCY: Forest Service, USDA.

ACTION: Notice of meeting.

SUMMARY: The Modoc County Resource Advisory Committee will meet in Alturas, CA. The committee is meeting as authorized under the Secure Rural Schools and Community Self-Determination Act (Pub. L. 110-343) and in compliance with the Federal Advisory Committee Act. The purpose of the meeting is to review Resource Advisory Committee Project Applications.

DATES: The meeting will be held March 14, 2011, 4 p.m.

ADDRESSES: The meeting will be held at Modoc National Forest Office, Conference Room, 800 West 12th St., Alturas.

FOR FURTHER INFORMATION CONTACT: Kimberly Anderson, Forest Supervisor and Designated Federal Officer, at (530) 233-8700; or Resource Advisory Coordinator, Stephen Riley at (530) 233-8706.

SUPPLEMENTARY INFORMATION: The business meeting on March 14, 2011 will begin at 4 p.m., at the Modoc National Forest Office, Conference Room, 800 West 12th St., Alturas, California 96101. Agenda topics will include voting and discussion of project proposals that meet the intent of Public Law 110-343. Time will also be set aside for public comments at the beginning of the meeting.

Dated: March 1, 2011.
Mario Longoria,
Civil Rights Specialist.

[FR Doc. 2011-5167 Filed 3-7-11; 8:45 am]

BILLING CODE 3410-11-P